DEPARTMENT OF AGRICULTURE

Forest Service

Klamath Provincial Advisory Committee (PAC)

AGENCY: Forest Service, USDA.

ACTION: Notice of meeting.

SUMMARY: The Klamath Provincial Advisory Committee will meet on April 13 and 14, 2000, at the Miner's Inn Convention Center, 122 E. Miner, Yreka, California. The meeting on Thursday, April 13, will start at 1 p.m. and adjourn at 5 p.m. The meeting will reconvene on Friday, April 14 at 8 a.m. and will adjourn at 12 p.m. Agenda items for the meeting include: (1) Discussion of the Megram Fire rehabilitation; (2) A presentation of the development of Fire Management Strategies; and (3) Public Member Co-Chair for PAC. All Provincial Advisory Committee meetings are open to the public. Interested citizens are encouraged to attend.

FOR FURTHER INFORMATION CONTACT: Connie Hendryx, USDA, Klamath National Forest, 11263 N. Hwy 3, Fort Jones, California 96032; telephone 530-468-1281 (voice), TDD 530-468-2783.

Dated: March 24, 2000.
Margaret J. Boland,
Forest Supervisor.

[FR Doc. 00-8124 Filed 3-31-00; 8:45 am]

BILLING CODE 3410-11-M